DEPARTMENT OF THE INTERIOR

Bureau of Reclamation

Bunker Hill Groundwater Basin, Riverside-Corona Feeder Project, San Bernardino and Riverside Counties, CA

AGENCY: Bureau of Reclamation, Interior.

ACTION: Notice of availability.

SUMMARY: Pursuant to the National Environmental Policy Act (NEPA) and the California Environmental Quality Act (CEQA), the Bureau of Reclamation (Reclamation) and the Western Municipal Water District (Western) have prepared a Supplemental Draft Environmental Impact Report and a Draft Environmental Impact Statement (SDEIR/DEIS) for the proposed Riverside-Corona Feeder (RCF) Project. Interested parties are invited to comment on the SDEIR/DEIS.

The Federal action will provide funds for a proposed aquifer storage and recovery project, including new groundwater wells and a 28-mile water pipeline with pump stations and a reservoir storage tank. The project is intended to improve the reliability of Western's water supply through managed storage, extraction and distribution of local and imported water supplies, using available capacity in the Bunker Hill Groundwater Basin and the Chino Basin.

DATES: Submit written comments on the SDEIR/DEIS by March 22, 2011.

ADDRESSES: Send written comments to Mrs. Amy Witherall, SCAO-7300, Bureau of Reclamation, Southern California Area Office, 27708 Jefferson Avenue, Suite 202, Temecula, CA 92590; facsimile (951) 695-5319; e-mail: awitherall@usbr.gov.

FOR FURTHER INFORMATION CONTACT: Mrs. Amy Witherall, telephone (951) 695-5310; facsimile (951) 695-5319; e-mail: awitherall@usbr.gov.

SUPPLEMENTARY INFORMATION: The SDEIR/DEIS can be downloaded from our Web site: http://www.usbr.gov/lc/socal/envdocs.html. Copies are also available for public review and inspection at the following locations:

• Bureau of Reclamation, Lower Colorado Regional Office, 500 Fir Street, Boulder City, Nevada 89005

• Bureau of Reclamation, Southern California Area Office, 27708 Jefferson Avenue, Suite 202, Temecula, California 92590

• Western Municipal Water District, 14205 Meridian Parkway, Riverside, California 92518

• San Bernardino Public Library, 555 West 6th Street, San Bernardino, California 92410

• Corona Public Library, 650 South Main Street, Corona, California 92882

• Riverside Public Library, 9556 Magnolia Avenue, Riverside, California 92503

Authority

This notice is provided pursuant to NEPA, 42 U.S.C. 4332(2)(c), and Department of the Interior regulations for the implementation of NEPA, 43 CFR Part 46.

Section 9112 of the Omnibus Public Land Management Act of 2009 (Public Law 111-11, 123 Stat. 1318), signed by the President on March 30, 2009, authorizes the Secretary of the Interior, in cooperation with Western, to participate in the planning, design, and construction of the Riverside-Corona Feeder Project including: (i) 20 groundwater wells; (ii) groundwater treatment facilities; (iii) water storage and pumping facilities; and (iv) 28 miles of pipeline in San Bernardino and Riverside Counties in the State of California.

Background

The proposed project will install up to 20 groundwater wells in the Bunker Hill Groundwater Basin, San Bernardino County, California. Existing recharge basins will be used to store imported water and local Santa Ana River flows in the Bunker Hill Groundwater Basin when supplies are available. The stored groundwater will be extracted later for delivery to communities in Western's service area in Riverside County, California, via 28 miles of pipeline ranging in diameter up to 78 inches, capable of delivering up to 40,000 acre-feet per year of groundwater at 100 cubic feet per second. The first phase of the project will also provide access to groundwater from the Chino Basin in San Bernardino County.

The currently proposed RCF alignment is a modification to a project previously evaluated by Western in 2005 and revised in 2008. The original project included eight segments, Reaches A through H, analyzed in the Programmatic Environmental Impact Report (PEIR) for the Riverside-Corona Feeder, California State Clearinghouse (SCH) No. 2003031121, certified by Western on May 18, 2005. Reaches E, F, and G were refined slightly in 2007 and evaluated in the Environmental Impact Report for the La Sierra Avenue Water Transmission Pipeline Project (SCH No. 2006101152), certified by Western on February 20, 2008. Western issued a Notice of Preparation of a draft Supplemental Program EIR on July 30, 2008, to evaluate a change in the pipeline alignment. Reclamation issued a Notice of Intent (NOI) to prepare an Environmental Impact Statement on February 24, 2010 (75 FR 8395).

The new alignment will not change the number of wells or the Bunker Hill groundwater extraction described in the 2005 PEIR, but will now allow Western to access available groundwater from existing desalter facilities in Chino Basin under an approved Optimum Basin Management Plan. The current project includes realignment of Reaches A through D, now referred to as the Northern and Central Reaches, with Reach H remaining as proposed in the original project. The refined alignment for Reaches E, F, and G will remain consistent with the approvals in the 2008 EIR.

Additional connection facilities were added to the project including a new well field for five (5) of the 20 wells, two (2) additional pump stations, one (1) five-million gallon reservoir, and connecting pipelines.

Reclamation is incorporating the two previous CEQA Environmental Impact Reports by reference. They are included as appendices to the draft SDEIR/DEIS.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: January 13, 2011.
Lorri Gray-Lee,
Regional Director, Lower Colorado Region.

[FR Doc. 2011-1127 Filed 1-19-11; 8:45 am]

BILLING CODE 4310-MN-P